DEPARTMENT OF HOMELAND SECURITY

Transportation Security Administration

Revision of Agency Information Collection Activity Under OMB Review: Pipeline System Operator Security Information

AGENCY: Transportation Security Administration, DHS.

ACTION: 30-Day notice.

SUMMARY: This notice announces that the Transportation Security Administration (TSA) has forwarded the Information Collection Request (ICR), Office of Management and Budget (OMB) control number 1652-0055, abstracted below to OMB for review and approval of a revision of the currently approved collection under the Paperwork Reduction Act (PRA). The ICR describes the nature of the information collection and its expected burden. TSA published a Federal Register notice, with a 60-day comment period soliciting comments, of the following collection of information on February 25, 2016, 81 FR 9494. Specifically, the collection involves the submission of data concerning pipeline security incidents.

DATES: Send your comments by June 6, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline System Operator Security Information.

Type of Request: Revision of a currently approved collection.

OMB Control Number: 1652-0055.

Forms(s): NA.

Affected Public: Pipeline system operators.

Abstract: Under the Aviation and Transportation Security Act (ATSA) (Pub. L. 107-71, 115 Stat. 597 (November 19, 2001)) and delegated authority from the Secretary of Homeland Security, TSA has broad responsibility and authority for “security in all modes of transportation * * * including security responsibilities * * * over modes of transportation that are exercised by the Department of Transportation.” See 49 U.S.C. 114(d). As the lead Federal agency for pipeline security, TSA desires to be notified of all incidents which are indicative of a possible deliberate attempt to disrupt pipeline operations or activities that could be precursors to such an attempt. In executing its responsibility for pipeline security, TSA produced the Pipeline Security Guidelines initially in December 2010, and reissued them in April 2011 when DHS changed the old color coded threat levels to the new National Terrorism Advisory System (NTAS) scale. The Pipeline Security Guidelines encourage pipeline operators to notify the Transportation Security Operations Center (TSOC) via phone at 866-615-5150 or email at TSOC.ST@dhs.gov as soon as possible of any specified incidents as outlined in the Security Guidelines.

In addition to security incident reporting, the Pipeline Security Guidelines previously included collecting pipeline operator security manager contact information to TSA. See 74 FR 37723 (July 29, 2009) and 75 FR 49943 (Aug. 16, 2010). TSA is revising the collection of information and will no longer collect the security manager contact information because a consolidated listing of contact information for pipeline industry security managers has been created and is available for use as recommended by the Pipeline Security Guidelines; however, the agency will continue to collect information on the reporting of security incident data to TSOC.

Number of Respondents: 60.¹

¹ The annual respondents and burden hours have been updated to reflect estimates based on actual data.

Estimated Annual Burden Hours: An estimated 30 hours annually.

Dated: May 2, 2016.
Christina A. Walsh,
TSA Paperwork Reduction Act Officer, Office of Information Technology.

[FR Doc. 2016-10703 Filed 5-5-16; 8:45 am]

BILLING CODE 9110-05-P